COMMITTEE FOR THE IMPLEMENTATION OF TEXTILE AGREEMENTS

Extension of Period of Determination on Request for Textile and Apparel Safeguard Action on Imports from China

September 2, 2005.

AGENCY: The Committee for the Implementation of Textile Agreements (the Committee).

ACTION: Notice.

SUMMARY: The Committee is extending through October 1, 2005, the period for making a determination on whether to request consultations with China regarding imports of knit fabric (Category 222).

FOR FURTHER INFORMATION CONTACT: Jay Dowling, Office of Textiles and Apparel, U.S. Department of Commerce, (202) 482-4058.

SUPPLEMENTARY INFORMATION:

Authority: Section 204 of the Agriculture Act of 1956, as amended; Executive Order 11651, as amended.

Background

On November 19, 2004, the Committee received a request from the American Manufacturing Trade Action Coalition, the National Council of Textile Organizations, the National Textile Association, and UNITE HERE requesting that the Committee limit imports from China of knit fabric (Category 222) due to the threat of market disruption.

The Committee determined that this request provided the information necessary for the Committee to consider the request and solicited public comments for a period of 30 days. See Solicitation of Public Comments on Request for Textile and Apparel Safeguard Action on Imports from China, 69 FR 75516 (Dec. 17, 2004).

On December 30, 2004, the Court of International Trade preliminarily enjoined the Committee from considering or taking any further action on this request and any other requests “that are based on the threat of market disruption”. U.S. Association of Importers of Textiles and Apparel v. United States, 350 F. Supp. 2d 1342 (CIT 2004). On April 27, 2005 the U.S. Court of Appeals for the Federal Circuit granted the U.S. government's motion for a stay and reversed the lower Court on June 28, 2005. U.S. Association of Importers of Textiles and Apparel v. United States, 413 F. 3d 1344 (Fed. Cir. 2005). Thus, CITA resumed consideration of this case.

The public comment period for this request had not yet closed when the injunction took effect on December 30, 2004. The number of calendar days remaining in the public comment period beginning with and including December 30, 2004 was 20 days. On May 9, 2005, therefore, the Committee published a notice in the Federal Register re-opening the comment period and inviting public comments to be received not later than May 31, 2005. See Rescheduling of Consideration of Request for Textile and Apparel Safeguard Action on Imports from China and Solicitations of Public Comments, 70 FR 24397 (May 9, 2005).

The Committee's Procedures, 68 FR 27787 (May 21, 2003) state that the Committee will make a determination within 60 calendar days of the close of the public comment period as to whether the United States will request consultations with China. If the Committee is unable to make a determination within 60 calendar days, it will cause to be published a notice in the Federal Register, including the date by which it will make a determination.

The 60 day determination period for this case expired on August 12, 2005. However, the Committee decided to extend until August 31, 2005, the period for making a determination on this case in order to consult with the domestic textile and apparel industry and members of Congress about whether to pursue a broader agreement with China on imports of Chinese textile and apparel products to the United States. Because of these consultations, the Committee was unable to make a determination within 60 days of the close of the public comment period. See Extension of Period of Determination on Request for Textile and Apparel Safeguard Action on Imports from China, 70 FR 45705 (August 8, 2005). The Committee is unable to make a determination within the extended period because it is continuing to evaluate conditions in the market for knit fabric. Therefore, the Committee is further extending the determination period to October 1, 2005.

James C. Leonard III,
Chairman, Committee for the Implementation of Textile Agreements.

[FR Doc.E5-4943 Filed 9-8-05; 8:45 am]

BILLING CODE 3510-DS-S